DEPARTMENT OF THE INTERIOR

Bureau of Land Management

[CO-930-1430-ET; COC-046748]

Public Land Order No. 7527; Revocation of Public Land Order No. 2632; Colorado

AGENCY: Bureau of Land Management, Interior.

ACTION: Public land order.

SUMMARY: This order revokes a public land order in its entirety as to the remaining 10,119.14 acres of public lands withdrawn for the Savory-Pot Hook Reclamation Project. The lands are no longer needed for reclamation purposes. This action will open the lands to surface entry and mining. The lands have been and will remain open to mineral leasing.

EFFECTIVE DATE: September 3, 2002.

FOR FURTHER INFORMATION CONTACT: Doris E. Chelius, BLM Colorado State Office, 2850 Youngfield Street, Lakewood, Colorado 80215-7093, 303-239-3706.

SUPPLEMENTARY INFORMATION: By virtue of the authority vested in the Secretary of the Interior by Section 204 of the Federal Land Policy and Management Act of 1976, 43 U.S.C. 1714 (1994), it is ordered as follows:

1. Public Land Order No. 2632, which withdrew public lands for the Bureau of Reclamation Savory-Pot Hook Project, is hereby revoked in its entirety insofar as it affects the remaining lands within the following Townships:

Sixth Principal Meridian

Tps. 11 and 12 N., R. 89 W.,

T. 12 N., R. 90 W.,

Tps. 11 and 12 N., R. 91 W.,

T. 11 N., R. 92 W.,

T. 12 N., R. 93 W.,

T. 12 N., R. 94 W.,

T. 6 N., R. 99 W.

The areas described aggregate 10,119.14 acres in Moffat County.

More specific legal descriptions showing sections and subdivisions may be obtained by contacting the address or phone number listed above. The documents may also be examined by the public during regular working hours at the Bureau of Land Management Colorado State Office.

2. At 9 a.m. on September 3, 2002, the lands described in paragraph 1 will be opened to the operation of the public land laws generally, subject to valid existing rights, the provisions of existing withdrawals, other segregations of record, and the requirements of applicable law. All valid applications received at or prior to 9 a.m. on September 3, 2002, shall be considered as simultaneously filed at that time. Those received thereafter shall be considered in the order of filing.

3. At 9 a.m. on September 3, 2002, the lands described in paragraph 1 will be opened to location and entry under the United States mining laws, subject to valid existing rights, the provisions of existing withdrawals, other segregations of record, and the requirements of applicable law. Appropriation of any of the lands described in this order under the general mining laws prior to the date and time of restoration is unauthorized. Any such attempted appropriation, including attempted adverse possession under 30 U.S.C. 38 (1994), shall vest no rights against the United States. Acts required to establish a location and to initiate a right of possession are governed by State law where not in conflict with Federal law. The Bureau of Land Management will not intervene in disputes between rival locators over possessory rights since Congress has provided for such determinations in local courts.

Dated: July 2, 2002.
Rebecca W. Watson,
Assistant Secretary—Land and Minerals Management.

[FR Doc. 02-19579 Filed 8-1-02; 8:45 am]

BILLING CODE 4310-JB-P